DEPARTMENT OF ENERGY

Federal Energy Regulatory Commission

Brookfield White Pine Hydro LLC, Project No. 2322-060—Maine, Shawmut Hydroelectric Project; Notice of Proposed Restricted Service List for a Programmatic Agreement

Rule 2010 of the Federal Energy Regulatory Commission's (Commission) Rules of Practice and Procedure, 18 CFR 385.2010, provides that, to eliminate unnecessary expense or improve administrative efficiency, the Secretary may establish a restricted service list for a particular phase or issue in a proceeding concerning non-public information. The restricted service list should contain the names of persons on the service list who, in the judgment of the decisional authority establishing the list, are active participants with respect to the phase or issue in the proceeding for which the list is established.

The Commission staff is consulting with the Maine Historic Preservation Commission (Maine SHPO) and the Advisory Council on Historic Preservation (Advisory Council) pursuant to the Advisory Council's regulations, 36 CFR part 800, implementing section 106 of the National Historic Preservation Act, as amended, (54 U.S.C. 306108), to prepare a Programmatic Agreement for managing properties included in, or eligible for inclusion in, the National Register of Historic Places that could be affected by issuance of a new license for the Shawmut Hydroelectric Project No. 2322-060.

The Programmatic Agreement, when executed by the Commission and the Maine SHPO, would satisfy the Commission's section 106 responsibilities for all individual undertakings carried out in accordance with the license until the license expires or is terminated (36 CFR 800.13[e]). The Commission staff proposes to draft the Programmatic Agreement in consultation with certain parties listed below.

Brookfield White Pine Hydro LLC, as licensee for the Shawmut Hydroelectric Project, is invited to participate in consultations to develop the Programmatic Agreement and to sign as a concurring party to the Programmatic Agreement. For purposes of commenting on the Programmatic Agreement, we propose to restrict the service list for Project No. 2322-060 as follows:

Dr. John Eddins, Advisory Council on Historic Preservation, 401 F Street NW., Suite 308, Washington, DC 20001-2637

Kirk F. Mohney, SHPO, Maine Historic Preservation Commission, 55 Capitol Street, 65 State House Station, Augusta, ME 04333-0065

Robin K. Reed or Representative, Maine Historic Preservation Commission, 55 Capitol Street, 65 State House Station, Augusta, ME 04333-0065

Frank Dunlap and Representative, Brookfield Renewable Energy Group, 26 Katherine Drive, Hallowell, ME 04347

Jennifer Pictou, THPO, or Representative, Aroostook Band of Micmac, 7 Northern Road, Presque Isle, ME 04769

Chris Sockalexis, THPO, or Representative, Penobscot Indian Nation, 12 Wabanaki Way, Indian Island, ME 04468

Donald Soctomah, THPO, Passamaquoddy Tribe—Pleasant Point, or Representative, P.O. Box 159, Princeton, ME 04668

Chief William Nicolas, Sr. or Representative, Passamaquoddy Tribe—Indian Township, P.O. Box 301, Princeton, ME 04668

Chief Brenda Commander or Representative, Houlton Band of Maliseet, 88 Bell Road, Littleton, ME 04730

David Saunders, Bureau of Indian Affairs, Eastern Region, 545 Marriott Drive, Suite 700, Nashville, TN 37214

Harold Peterson, Bureau of Indian Affairs, Eastern Region, 545 Marriott Drive, Suite 700, Nashville, TN 37214

Any person on the official service list for the above-captioned proceedings may request inclusion on the restricted service list, or may request that a restricted service list not be established, by filing a motion to that effect within 15 days of this notice date. A copy of any such motion must be filed with the Secretary, Federal Energy Regulatory Commission, 888 First Street NE., Washington, DC 20426 and must be served on each person whose name appears on the official service list. If no such motions are filed, the restricted service list will be effective at the end of the 15 day period. Otherwise, a further notice will be issued ruling on the motion.

Dated: February 9, 2016.
Nathaniel J. Davis, Sr.,
Deputy Secretary.

[FR Doc. 2016-03021 Filed 2-12-16; 8:45 am]

BILLING CODE 6717-01-P